DEPARTMENT OF THE INTERIOR

National Park Service

Notice of Availability of the Finding of No Significant Impact for the U.S. Park Police (USPP) Aviation Section Hangar and Fuel System Improvements, Washington, DC

ACTION: Notice of availability of the Decision Notice and Finding of No Significant Impact (FONSI) for the U.S. Park Police Aviation Section Hangar and Fuel System Improvements—National Capital Parks—East, Washington, DC.

SUMMARY: Pursuant to the National Environmental Policy Act (NEPA), Council on Environmental Quality regulations, and National Park Service (NPS) guidance, the NPS prepared an environmental assessment (EA) for the construction of an additional aviation hangar and a new fueling station at the existing USPP Aviation Section's heliport in Washington, DC. The EA contained analysis developed as a result of public comments on a draft version obtained during a 30-day public review on the draft EA. The availability of the EA for a second 30-day public comment period was announced in the Federal Register on August 29, 2000. After the comment period, NPS selected the preferred alternative which is the proposed action, followed by a November 2, 2000 finding of no significant environmental impact.

These improvements are to the USPP heliport, which is an existing facility in Anacostia Park, National Capital Parks-East, and is used for helicopters that are the only law enforcement and emergency rescue helicopters serving Washington, DC. The project would construct an approximately 6,100-square-foot aviation hangar and replace the fuel trucks on-site by installation of a new environmentally protective fueling station. All improvements would be completely located within the existing area of the heliport with no increase in the size of the heliport footprint, and with three-fourths acre of paving removed and restored to grass.

SUPPLEMENTARY INFORMATION: Requests for copies of the DN/FONSI/EA, or for any additional information, should be directed to Mr. Michael Wilderman, National Capital Parks-East, 1900 Anacostia Drive, SE., Washington, DC 20020, Telephone (202) 690-5165.

Dated: November 6, 2000.
Gentry Davis,
Acting Regional Director, National Park Service, National Capital Region.

[FR Doc. 00-28948 Filed 11-9-00; 8:45 am]

BILLING CODE 4310-70-M